DEPARTMENT OF THE INTERIOR

Bureau of Land Management

[LLOR-936000-L1430000-FQ0000-HAG12-0150; WAOR-22073 and 22465]

Public Land Order No. 7789; Partial Withdrawal Revocation and Transfer of Administrative Jurisdiction for Fort Vancouver National Historic Site, WA

AGENCY: Bureau of Land Management, Interior.

ACTION: Public land order.

SUMMARY: This order partially revokes a withdrawal created by a Secretarial Order, General Orders, and an Executive Order insofar as they affect approximately 33.75 acres of public land reserved for military purposes on behalf of the United States Department of the Army for the East and South Vancouver Barracks in Washington. The land is no longer needed for the purpose for which it was withdrawn. This order also transfers administrative jurisdiction of the land to the National Park Service to be managed as part of the Vancouver National Historical Site.

DATES: Effective Date: May 22, 2012.

FOR FURTHER INFORMATION CONTACT: Michael L. Barnes, Bureau of Land Management, Oregon State Office, 333 SW. 1st Avenue, Portland, Oregon 97204; 503-808-6155. Persons who use a telecommunications device for the deaf (TDD) may call the Federal Information Relay Service (FIRS) at 1-800-877-8339 to contact the above individual. The FIRS is available 24 hours a day, 7-days a week, to leave a message or question with the above individual. You will receive a reply during normal business hours.

SUPPLEMENTARY INFORMATION: The United States Department of the Army has determined that 33.75 acres of public land is excess to its needs and has requested a partial revocation of the withdrawal. Pursuant to Public Law 87-78, (75 Stat. 196 (1961)), as amended, the land is found suitable for transfer to the National Park Service to be administered as part of the Fort Vancouver National Historical Site.

Order

By virtue of the authority vested in the Secretary of the Interior by Section 204 of the Federal Land Policy and Management Act of 1976, 43 U.S.C. 1714, and Public Law 87-78 (75 Stat. 196 (1961)), it is ordered as follows:

1. The Secretarial Order dated January 29, 1848, as modified by an Executive Order dated January 15, 1878, and General Order No. 6 dated February 4, 1878, which withdrew public land and reserved it on behalf of the U.S. Military, presently managed by the Army Corps of Engineers, is hereby revoked only insofar as it affects the following described land:

Willamette Meridian

T. 2 N., R. 1 E.,

Parcels 5, 6, 7, and 9, and any Federal interest in McLaughlin Boulevard (now Fort Vancouver Way), easterly of a line from Cor. 1 to Cor. 2, Public Roads Administration (Federal Highway Administration) site and westerly of Parcel 5, as shown on the official survey accepted on December 5, 2011.

The area described contains approximately 33.75 acres, more or less, in Clark County.

2. Pursuant to Public Law 87-78 (75 Stat. 196 (1961)), administrative jurisdiction of the land described in Paragraph 1 is hereby transferred to the National Park Service to be administered as part of the Fort Vancouver National Historic Site.

Dated: May 22, 2012.
Rhea S. Suh,
Assistant Secretary—Policy, Management and Budget.

[FR Doc. 2012-13600 Filed 6-4-12; 8:45 am]

BILLING CODE 4310-33-P